NUCLEAR REGULATORY COMMISSION

[Docket No. 030-12998]

Notice of Availability of Environmental Assessment and Finding of No Significant Impact for License; Amendment for Philadelphia Health & Education Corporation's Facility at the Eastern Pennsylvania Psychiatric Institute in Philadelphia, PA

AGENCY: Nuclear Regulatory Commission.

ACTION: Notice of availability of Environmental Assessment and Finding of No Significant Impact.

FOR FURTHER INFORMATION CONTACT: Randolph C. Ragland, Jr., Nuclear Materials Safety Branch 1, Division of Nuclear Materials Safety, Region I, 475 Allendale Road, King of Prussia, Pennsylvania, 19406, telephone (610) 337-5083, fax (610) 337-5269; or by email: rcr1@nrc.gov.

SUPPLEMENTARY INFORMATION:

I. Introduction

The Nuclear Regulatory Commission (NRC) is considering the issuance of a license amendment to Philadelphia Health & Education Corporation for Materials License No. 37-07438-15, to authorize release of its facility located at 3200 Henry Avenue, Philadelphia, PA for unrestricted use. NRC has prepared an Environmental Assessment (EA) in support of this action in accordance with the requirements of 10 CFR part 51. Based on the EA, the NRC has concluded that a Finding of No Significant Impact (FONSI) is appropriate. The amendment will be issued following the publication of this notice.

II. EA Summary

The purpose of the proposed action is to authorize the release of the licensee's 3200 Henry Avenue, Philadelphia, PA facility for unrestricted use. The Eastern Pennsylvania Psychiatric Institute was authorized by NRC as a location of use from 1982 to use radioactive materials for research and development purposes at the site. On May 5, 2004, Philadelphia Health & Education Corporation requested that NRC release the facility for unrestricted use. Philadelphia Health & Education Corporation has conducted surveys of the facility and determined that the facility meets the license termination criteria in subpart E of 10 CFR part 20. The NRC staff has prepared an EA in support of the proposed license amendment.

III. Finding of No Significant Impact

The staff has prepared the EA (summarized above) in support of the proposed license amendment to release the facility for unrestricted use. The NRC staff has evaluated Philadelphia Health & Education Corporation's request and the results of the surveys and has concluded that the completed action complies with the criteria in subpart E of 10 CFR part 20. The staff has found that the environmental impacts from the proposed action are bounded by the impacts evaluated by the “Generic Environmental Impact Statement in Support of Rulemaking on Radiological Criteria for License Termination of NRC-Licensed Facilities'' (NUREG-1496). On the basis of the EA, the NRC has concluded that the environmental impacts from the proposed action are expected to be insignificant and has determined not to prepare an environmental impact statement for the proposed action.

IV. Further Information

Documents related to this action, including the applications for license amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this Notice are: ML042050031, ML041340651, ML042010301, and ML041950465. Persons who do not have access to ADAMS or who encounter problems in accessing the documents located in ADAMS, should contact the NRC Public Document Room (PDR) Reference staff by telephone at (800) 397-4209 or (301) 415-4737, or by email to pdr@nrc.gov. These documents may also be examined, and/or copied for a fee, at the NRC PDR, located at One White Flint North, 11555 Rockville Pike (First Floor), Rockville, MD 20852. The PDR is open from 7:45 a.m. to 4:15 p.m., Monday through Friday, except on Federal holidays; and at the Region I Office, 475 Allendale Road, King of Prussia, Pennsylvania 19406.

Dated in King of Prussia, Pennsylvania this 23rd day of July, 2004.
For the Nuclear Regulatory Commission.
Penny Lanzisera,
Acting Chief, Nuclear Materials Safety Branch 1, Division of Nuclear Materials Safety, Region I.

[FR Doc. 04-17345 Filed 7-29-04; 8:45 am]

BILLING CODE 7590-01-P